DEPARTMENT OF COMMERCE

National Oceanic and Atmospheric Administration

[I.D. 101700G]

Caribbean Fishery Management Council; Public Meetings

AGENCY: National Marine Fisheries Service (NMFS), National Oceanic and Atmospheric Administration (NOAA), Commerce.

ACTION: Notice of public meetings.

SUMMARY: The Caribbean Fishery Management Council (Council) will hold meetings.

DATES: The meetings will be held on November 14-15, 2000. The Council will convene on Tuesday, November 14, 2000, from 1 p.m. to 5 p.m. through Wednesday, November 15, 2000, from 9 a.m. to 12 noon, approximately.

ADDRESSES: The meetings will be held at the Divi Carina Bay Resort and Casino, 25 Estate Turnerhole, Christiansted, St. Croix, USVI.

FOR FURTHER INFORMATION CONTACT: Caribbean Fishery Management Council, 268 Muñoz Rivera Avenue, Suite 1108, San Juan, Puerto Rico 00918-2577, telephone: (787) 766-5926.

SUPPLEMENTARY INFORMATION: The Council will hold its 102nd regular public meeting to discuss the items contained in the following agenda:

Call to Order

Adoption of Agenda

Consideration of 101st Council Meeting Summary Minutes

Executive Director’s Report

Dolphin/Wahoo Fishery Management Plan (FMP) Final Action

-Scientific and Statistical Committee (SSC)/Advisory Panel (AP) Minutes

-Ad-Hoc Committee Meeting Report

Queen Conch FMP Final Action

-Continuation of Discussion of Management Measures

-Honduras-Jamaica Meeting Report

Essential Fish Habitat

-Habitat AP Meeting Minutes

Other Business

-AP Membership

Next Council Meeting

The meetings are open to the public, and will be conducted in English. Fishers and other interested persons are invited to attend and participate with oral or written statements regarding agenda issues.

Although non-emergency issues not contained in this agenda may come before the Council for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. For more information or request for sign language interpretation and/other auxiliary aids, please contact Mr. Miguel A. Rolon, Executive Director, Caribbean Fishery Management Council, 268 Muñoz Rivera Avenue, Suite 1108, San Juan, Puerto Rico, 00918-2577, telephone: (787) 766-5926, at least 5 days prior to the meeting date.

Dated: October 20, 2000.
Richard W. Surdi,
Acting Director, Office of Sustainable Fisheries, National Marine Fisheries Service.

[FR Doc. 00-27700 Filed 10-26-00; 8:45 am]

BILLING CODE: 3510-22 -S